DEPARTMENT OF HEALTH AND HUMAN SERVICES

[Document Identifier: OS-0990-0459]

Agency Father Generic Information Collection Request: 30-Day Public Comment Request

AGENCY: Office of the Secretary, Health and Human Service, HHS.

ACTION: Notice and request for comments. Office of the Assistant Secretary for Public Affairs is requesting OMB approval for a new father Generic Clearance.

SUMMARY: In compliance with the requirement of the Paperwork Reduction Act of 1995, the Office of the Secretary (OS), Department of Health and Human Services, is publishing the following summary of a proposed collection for public comment.

DATES: Comments on the ICR must be received on or before August 16, 2023.

ADDRESSES: Submit your comments to OIRA_submission@omb.eop.gov or via facsimile to (202) 395-5806.

FOR FURTHER INFORMATION CONTACT: Sherrette Funn, Sherrette.Funn@hhs.gov or (202) 264-0041. When requesting information, please include the document identifier 0990-0459 30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Fast-Track Generic Clearance for the Collection of Routine Customer Feedback on HHS Communications.

Type of Collection: Father Generic ICR.

OMB No.: 0990-0459—ASPA.

Abstract: This collection of information is necessary to enable HHS to garner customer and stakeholder feedback. Information will be collected from our customers and stakeholders from the concept phase to the end of the product life cycle. This will help ensure that users have an effective, efficient, and satisfying experience with HHS communications products. If this information is not collected, vital feedback on HHS communications will be unavailable, preventing programs from developing communications products that meets the needs of the audience and demonstrating impact of the communications products developed.

Type of respondent; frequency (annual, quarterly, monthly, etc); and the affected public (individuals, public or private businesses, state or local governments, etc.).

Annualized Burden Hour Table
Forms (If necessary) | Number of respondents | Number of responses per respondents | Average burden per response | Total burden hours
HHS communications products | 1,000,000 | 1 | 30/60 | 500,000

Sherrette A. Funn,
Paperwork Reduction Act Reports Clearance Officer, Office of the Secretary.

[FR Doc. 2023-15029 Filed 7-14-23; 8:45 am]

BILLING CODE 4150-25-P